DEPARTMENT OF TRANSPORTATION

National Highway Traffic Safety Administration

[U.S. DOT Docket Number NHTSA-2008-0006]

Reports, Forms and Recordkeeping Requirements

AGENCY: National Highway Traffic Safety Administration, U.S. Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on January 22, 2008 (73 FR 3798).

DATES: Comments must be submitted to OMB on or before April 28, 2008.

ADDRESSES: Send comments to the Office of Information and Regulatory Affairs, OMB, 725 17th Street, NW., Washington, DC 20503, Attention: Desk Officer.

FOR FURTHER INFORMATION CONTACT: Jennifer Timian, Recall Management Division (NVS-215), Room W46-324, NHTSA, 1200 New Jersey Ave., Washington, DC 20590, Telephone: (202) 366-0209.

SUPPLEMENTARY INFORMATION:

National Highway Traffic Safety Administration

Title: Names and Address of First Purchasers of Motor Vehicles.

OMB Number: 2127-0044.

Type of Request: Revision of a currently approved information collection.

Affected Public: Businesses or others for profit.

Abstract: Pursuant to 49 U.S.C. 30117(b) a manufacturer of a motor vehicle or tire must maintain a record of the name and address of the first purchasers of each vehicle or tire it produces and, to the extent prescribed by regulation of the Secretary, must maintain a record of the name and address of the first purchaser of replacement equipment (except a tire) that the manufacturer produces.

Vehicle manufacturers currently collect and maintain purchaser information for business reasons, such as warranty claims processing and marketing, and experience with this statutory requirement has shown that manufacturers have retained this information in a sufficient manner to enable them to expeditiously notify vehicle purchasers in the case of a safety recall.

Estimated Annual Burden: Zero. As a practical matter, vehicle manufacturers are presently collecting from their dealers and then maintaining first purchaser information for their own commercial reasons. Therefore, the statutory requirement does not impose any additional burden.

Number of Respondents: 1,000.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

Issued on: March 25, 2008.
Kathleen C. DeMeter,
Director, Office of Defects Investigation.

[FR Doc. E8-6454 Filed 3-27-08; 8:45 am]

BILLING CODE 4910-59-P